DEPARTMENT OF DEFENSE

Department of the Air Force

[Docket ID USAF-2014-0003]

Privacy Act of 1974; System of Records

AGENCY: Department of the Air Force, DoD.

ACTION: Notice to delete a system of records.

SUMMARY: The Department of the Air Force is deleting a system of records notice in its existing inventory of record systems subject to the Privacy Act of 1974 (5 U.S.C. 552a), as amended. The system of records notice being deleted is F036 AF DP F, Employee Assistance Program (EAP) Case Record Systems.

DATES: This proposed action will be effective on March 3, 2014 unless comments are received which result in a contrary determination. Comments will be accepted on or before March 3, 2014.

ADDRESSES: You may submit comments, identified by docket number and title, by any of the following methods:

* Federal Rulemaking Portal: http://www.regulations.gov.

Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Charles J. Shedrick, Department of the Air Force Privacy Office, Air Force Privacy Act Office, Office of Warfighting Integration and Chief Information officer, ATTN: SAF/CIO A6, 1800 Air Force Pentagon, Washington, DC 20330-1800, or by phone at (571) 256-2515.

SUPPLEMENTARY INFORMATION: The Department of the Air Force systems of records notices subject to the Privacy Act of 1974 (5 U.S.C. 552a), as amended, have been published in the Federal Register and are available from the address in FOR FURTHER INFORMATION CONTACT.

The Department of the Air Force proposes to delete one system of records notice from its inventory of record systems subject to the Privacy Act of 1974 (5 U.S.C. 552a), as amended. The proposed deletion is not within the purview of subsection (r) of the Privacy Act of 1974 (5 U.S.C. 552a), as amended, which requires the submission of a new or altered system report.

Dated: January 28, 2014.
Aaron Siegel,
Alternate OSD Federal Register Liaison Officer, Department of Defense.

Deletion:

F036 AF DP F.

Employee Assistance Program (EAP) Case Record Systems (June 11, 1997, 62 FR 31793).

Reason:

The Air Force does not mandate Employee Assistance Programs (EAP). Air Force civilian personnel sections do not collect/maintain data on employees utilizing EAP.

Federal Occupational Health (FOH)/Department of Health and Human Services (HHS) is the custodian of records for Federal EAP customers and has a published HHS System of Records Notice, 09-90-0010, EAP Records, which covers Federal employees and their family members using EAP through contractual agreement between HSS and their organizations.

This system does not have an OMB control number.

[FR Doc. 2014-01993 Filed 1-30-14; 8:45 am]

BILLING CODE 5001-05-P